DEPARTMENT OF JUSTICE

Antitrust Division

Notice Pursuant to the National Cooperative Research and Production Act of 1993—Countering Weapons of Mass Destruction

Notice is hereby given that, on January 8, 2024, pursuant to section 6(a) of the National Cooperative Research and Production Act of 1993, 15 U.S.C. 4301 et seq. (“the Act”), Countering Weapons of Mass Destruction (“CWMD”) has filed written notifications simultaneously with the Attorney General and the Federal Trade Commission disclosing changes in its membership. The notifications were filed for the purpose of extending the Act's provisions limiting the recovery of antitrust plaintiffs to actual damages under specified circumstances. Specifically, Cam Lock (UAS) LLC, Fallbrook, CA; Columbus Nanowork Inc, Columbus, OH; Defense Industry Advisors LLC, Dayton, OH; The Henry M. Jackson Foundation for the Advancement of Military Medicine Inc, Bethesda, MD; and SC&A Inc, Arlington, VA have been added as parties to this venture.

Also, Accurate Energetic Systems LLC, McEwen, TN; Armtec Countermeasures, Coachella, CA; Blueforce Development Corp, Newburyport, MA; Chenega Support Services LLC, San Antonio, TX; Gates Defense Systems LLC, St. Petersburg, FL; Lockheed Martin Corp, Morrestown, NJ; Murtech Inc, Glen Burnie, MD; NexGen Communications LLC, Nashua, NH; and OmniMask LLC, Lafayette, CA have withdrawn from this venture.

No other changes have been made in either the membership or planned activity of the group research project. Membership in this group research project remains open, and CWMD intends to file additional written notifications disclosing all changes in membership.

On January 31, 2018, CWMD filed its original notification pursuant to section 6(a) of the Act. The Department of Justice published a notice in the Federal Register pursuant to section 6(b) of the Act on March 12, 2018 (83 FR 10750).

The last notification was filed with the Department on October 9, 2023. A notice was published in the Federal Register pursuant to section 6(b) of the Act on December 15, 2023 (88 FR 86929).

Suzanne Morris,
Deputy Director Civil Enforcement Operations, Antitrust Division.

[FR Doc. 2024-08460 Filed 4-19-24; 8:45 am]

BILLING CODE P